DEPARTMENT OF HOMELAND SECURITY

Federal Emergency Management Agency

[Docket ID FEMA-2024-0002; Internal Agency Docket No. FEMA-B-2403]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 29, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2403, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Hartford County, Connecticut (All Jurisdictions)
Project: 18-01-0024S Preliminary Date: June 29, 2023
City of Bristol | City Hall, 111 North Main Street, Bristol, CT 06010.
Town of Avon | Town Hall, 60 West Main Street, Avon, CT 06001.
Town of Bloomfield | Town Hall, 800 Bloomfield Avenue, Bloomfield, CT 06002.
Town of Burlington | Town Hall, 200 Spielman Highway, Burlington, CT 06013.
Town of Canton | Canton Town Hall, 4 Market Street, Collinsville, CT 06019.
Town of East Granby | Town Hall, 9 Center Street, East Granby, CT 06026.
Town of Farmington | Town Hall, 1 Monteith Drive, Farmington, CT 06032.
Town of Granby | Town Hall, 15 North Granby Road, Granby, CT 06035.
Town of Hartland | Hartland Town Hall, 22 South Road, East Hartland, CT 06027.
Town of Plainville | Municipal Center, 1 Central Square, Plainville, CT 06062.
Town of Simsbury | Town Hall, 933 Hopmeadow Street, Simsbury, CT 06070.
Town of Suffield | Town Hall, 83 Mountain Road, Suffield, CT 06078.
Town of West Hartford | Town Hall, 50 South Main Street, West Hartford, CT 06107.
Town of Windsor | Town Hall, 275 Broad Street, Windsor, CT 06095.
Town of Windsor Locks | Town Hall, 50 Church Street, Windsor Locks, CT 06096.
Tazewell County, Illinois and Incorporated Areas
Project: 20-05-0001S Preliminary Date: August 31, 2023
City of East Peoria | City Hall, 401 West Washington Street, East Peoria, IL 61611.
Unincorporated Areas of Tazewell County | Tazewell County McKenzie Building, 11 South 4th Street, Suite 400, Pekin, IL 61554.
Village of Creve Coeur | Village Hall, 103 North Thorncrest Avenue, Creve Coeur, IL 61610.
Hillsborough County, New Hampshire (All Jurisdictions)
Project: 18-01-0025S Preliminary Date: May 18, 2023
Town of Antrim | Planning Department, 66 Main Street, Antrim, NH 03440.
Town of Bennington | Town Hall, 7 School Street, Bennington, NH 03442.
Town of Deering | Town Hall, 762 Deering Center Road, Deering, NH 03244.
Town of Francestown | Town Hall, 27 Main Street, Francestown, NH 03043.
Town of Greenfield | Town Office, 7 Sawmill Road, Greenfield, NH 03047.
Town of Hancock | Town Hall, 50 Main Street, Hancock, NH 03449.
Town of Hillsborough | Planning Department, 27 School Street, Hillsborough, NH 03244.
Town of New Ipswich | Town Hall, 661 Turnpike Road, New Ipswich, NH 03071.
Town of Peterborough | Planning Department, 1 Grove Street, Peterborough, NH 03458.
Town of Sharon | Town Hall, 432 NH Route 123, Sharon, NH 03458.
Town of Temple | Town Hall, 423 Route 45, Temple, NH 03084.
Town of Weare | Town Hall, 15 Flanders Memorial Road, Weare, NH 03281.
Town of Windsor | Town Hall, 14 White Pond Road, Windsor, NH 03244.
Providence County, Rhode Island (All Jurisdictions)
Project: 17-01-0182S Preliminary Dates: February 10, 2023 and August 01, 2023
City of Central Falls | City Hall, 580 Broad Street, Central Falls, RI 02863.
City of Pawtucket | City Hall, 137 Roosevelt Avenue, Pawtucket, RI 02860.
City of Woonsocket | City Hall, 169 Main Street, Woonsocket, RI 02895.
Town of Burrillville | Burrillville Town Annex, 144 Harrisville Main Street, Harrisville, RI 02830.
Town of Cumberland | Department of Public Works, 45 Broad Street, Cumberland, RI 02864.
Town of Glocester | Glocester Town Hall, 1145 Putnam Pike, Chepachet, RI 02814.
Town of Lincoln | Town Hall, 100 Old River Road, Lincoln, RI 02865.
Town of North Smithfield | Town Hall, 83 Greene Street, North Smithfield, RI 02876.
Town of Scituate | Town Hall, 195 Danielson Pike, Scituate, RI 02857.
Town of Smithfield | Town Hall, 64 Farnum Pike, Smithfield, RI 02917.

[FR Doc. 2024-01625 Filed 1-26-24; 8:45 am]

BILLING CODE 9110-12-P